DEPARTMENT OF LABOR

Employment and Training Administration

[TA-W-59,413]

Eaton Corporation, Cleveland, OH; Notice of Termination of Investigation

Pursuant to Section 221 of the Trade Act of 1974, as amended, an investigation was initiated on May 17, 2006 in response to a petition filed by a company official on behalf of workers at the Eaton Corporation in Cleveland, Ohio.

The petitioner has requested that the petition be withdrawn. Consequently, the investigation has been terminated.

Signed in Washington, DC this 6th day of June, 2006.
Richard Church,
Certifying Officer, Division of Trade Adjustment Assistance.

[FR Doc. E6-10515 Filed 7-5-06; 8:45 am]

BILLING CODE 4510-30-P